DEPARTMENT OF TRANSPORTATION

Federal Aviation Administration

14 CFR Part 39

[Docket No. FAA-2020-0208; Product Identifier 2019-NM-209-AD]

RIN 2120-AA64

Airworthiness Directives; The Boeing Company Airplanes

AGENCY: Federal Aviation Administration (FAA), DOT.

ACTION: Notice of proposed rulemaking (NPRM).

SUMMARY: The FAA proposes to supersede Airworthiness Directive (AD) 2015-13-06, which applies to certain The Boeing Company Model 747-400 and 747-400F series airplanes. AD 2015-13-06 requires repetitive inspections of the longeron extension fittings for cracking, repetitive high frequency eddy current (HFEC) inspections of any modified, repaired, or replaced longeron extension fitting for cracking, and applicable on-condition actions. Since the FAA issued AD 2015-13-06, the FAA has determined that additional airplanes are affected by the identified unsafe condition. This proposed AD would retain the requirements of AD 2015-13-06 and include additional airplanes in the applicability. For those additional airplanes, this proposed AD would require only repetitive inspections of the longeron extension fittings for cracking and repair if necessary. The FAA is proposing this AD to address the unsafe condition on these products.

DATES: The FAA must receive comments on this proposed AD by May 14, 2020.

ADDRESSES: You may send comments, using the procedures found in 14 CFR 11.43 and 11.45, by any of the following methods:

• Federal eRulemaking Portal: Go to https://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this NPRM, contact Boeing Commercial Airplanes, Attention: Contractual & Data Services (C&DS), 2600 Westminster Blvd., MC 110-SK57, Seal Beach, CA 90740-5600; phone: 562-797-1717; internet: https://www.myboeingfleet.com. You may view this service information at the FAA, Transport Standards Branch, 2200 South 216th St., Des Moines, WA. For information on the availability of this material at the FAA, call 206-231-3195. It is also available on the internet at https://www.regulations.gov by searching for and locating Docket No. FAA-2020-0208.

Examining the AD Docket

You may examine the AD docket on the internet at https://www.regulations.gov by searching for and locating Docket No. FAA-2020-0208; or in person at Docket Operations between 9 a.m. and 5 p.m., Monday through Friday, except Federal holidays. The AD docket contains this NPRM, the regulatory evaluation, any comments received, and other information. The street address for Docket Operations is listed above. Comments will be available in the AD docket shortly after receipt.

FOR FURTHER INFORMATION CONTACT: Eric Lin, Aerospace Engineer, Airframe Section, FAA, Seattle ACO Branch, 2200 South 216th St., Des Moines, WA 98198; phone and fax: 206-231-3523; email: eric.lin@faa.gov.

SUPPLEMENTARY INFORMATION:

Comments Invited

The FAA invites you to send any written relevant data, views, or arguments about this proposal. Send your comments to an address listed under the ADDRESSES section. Include “Docket No. FAA-2020-0208; Product Identifier 2019-NM-209-AD” at the beginning of your comments. The FAA specifically invites comments on the overall regulatory, economic, environmental, and energy aspects of this NPRM. The FAA will consider all comments received by the closing date and may amend this NPRM because of those comments.

The FAA will post all comments, without change, to https://www.regulations.gov, including any personal information you provide. The FAA will also post a report summarizing each substantive verbal contact the agency receives about this proposed AD.

Discussion

The FAA issued AD 2015-13-06, Amendment 39-18193 (80 FR 44835, July 28, 2015) (“AD 2015-13-06”), for certain The Boeing Company Model 747-400 and 747-400F series airplanes. AD 2015-13-06 requires repetitive inspections of the longeron extension fittings for cracking, repetitive HFEC inspections of any modified, repaired, or replaced longeron extension fitting for cracking, and applicable on-condition actions. AD 2015-13-06 resulted from reports of cracking in the outboard flange of the longeron extension fittings, and the FAA's determination that more work is necessary on airplanes on which a permanent repair, longeron extension fitting replacement, or modification was accomplished. The FAA issued AD 2015-13-06 to address cracks in the longeron extension fittings, which can become large and adversely affect the structural integrity of the airplane.

Actions Since AD 2015-13-06 Was Issued

Since the FAA issued AD 2015-13-06, Boeing reported that an operator found a cracked longeron extension fitting on an airplane not included in the applicability of AD 2015-13-06. Based on that report, the FAA has determined that additional airplanes are likely affected by the identified unsafe condition. The FAA has therefore added Model 747-100, 747-100B, 747-100B SUD, 747-200B, 747-200C, 747-200F, 747-300, 747-400D, 747SR, and 747SP series airplanes to the applicability of this proposed AD.

Related Service Information Under 1 CFR Part 51

The FAA reviewed Boeing Service Bulletin 747-53A2860, Revision 3, dated November 11, 2019. The service information describes procedures for repetitive inspections of the longeron extension fittings for cracking, repetitive HFEC inspections of any modified, repaired, or replaced longeron extension fitting for cracking, and applicable on-condition actions. On-condition actions include replacement, repair, and modification. This service information is reasonably available because the interested parties have access to it through their normal course of business or by the means identified in the ADDRESSES section.

FAA's Determination

The FAA is proposing this AD because the FAA evaluated all the relevant information and determined the unsafe condition described previously is likely to exist or develop in other products of the same type design.

Proposed AD Requirements

Although this proposed AD does not explicitly restate the requirements of AD 2015-13-06, this proposed AD would retain all of the requirements of AD 2015-13-06. Those requirements are referenced in the service information identified previously, which, in turn, is referenced in paragraph (g) of this proposed AD. This proposed AD would include additional airplanes in the applicability. This proposed AD would also require accomplishing the actions specified in the service information described previously. For information on the procedures and compliance times, see this service information at https://www.regulations.gov by searching for and locating Docket No. FAA-2020-0208.

Costs of Compliance

The FAA estimates that this proposed AD affects 67 airplanes of U.S. registry. The FAA estimates the following costs to comply with this proposed AD:

Estimated Costs for Required Actions
Action | Labor cost | Parts cost | Cost per product | Cost on U.S. operators
HFEC inspection (retained actions from AD 2015-13-06) (41 airplanes) | 32 work-hours × $85 per hour = $2,720 per inspection cycle | $0 | $2,720 per inspection cycle | $111,520 per inspection cycle.
HFEC inspection (new proposed action) (26 airplanes) | 32 work-hours × $85 per hour = $2,720 per inspection cycle | $0 | $2,720 per inspection cycle | $70,720 per inspection cycle.

The FAA estimates the following costs to do any necessary on-condition actions that would be required. The FAA has no way of determining the number of aircraft that might need these on-condition actions:

Estimated Costs of On-Condition Costs
Action | Labor cost | Parts cost | Cost per product
Replacement, Repair, Modification, or Preventative Modification | Up to 908 work-hours × $85 per hour = Up to $77,180 | Up to $99,950 | Up to $177,130.

Authority for This Rulemaking

Title 49 of the United States Code specifies the FAA's authority to issue rules on aviation safety. Subtitle I, Section 106, describes the authority of the FAA Administrator. Subtitle VII, Aviation Programs, describes in more detail the scope of the Agency's authority.

The FAA is issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA has determined that this proposed AD would not have federalism implications under Executive Order 13132. This proposed AD would not have a substantial direct effect on the States, on the relationship between the national Government and the States, or on the distribution of power and responsibilities among the various levels of government.

For the reasons discussed above, I certify that the proposed regulation:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2015-13-06, Amendment 39-18193 (80 FR 44835, July 28, 2015), and adding the following new AD:

The Boeing Company: Docket No. FAA-2020-0208; Product Identifier 2019-NM-209-AD.

(a) Comments Due Date

The FAA must receive comments on this AD action by May 14, 2020.

(b) Affected ADs

This AD replaces AD 2015-13-06, Amendment 39-18193 (80 FR 44835, July 28, 2015) (“AD 2015-13-06”).

(c) Applicability

This AD applies to The Boeing Company Model 747-100, 747-100B, 747-100B SUD, 747-200B, 747-200C, 747-200F, 747-300, 747-400, 747-400D, 747-400F, 747SR, and 747SP series airplanes, certificated in any category, as identified in Boeing Service Bulletin 747-53A2860, Revision 3, dated November 11, 2019.

(d) Subject

Air Transport Association (ATA) of America Code 53, Fuselage.

(e) Unsafe Condition

This AD was prompted by reports of cracking in the outboard flange of the longeron extension fittings and the FAA's determination that additional airplanes are affected by the identified unsafe condition. The FAA is issuing this AD to address cracks in the longeron extension fittings, which can become large and adversely affect the structural integrity of the airplane.

(f) Compliance

Comply with this AD within the compliance times specified, unless already done.

(g) Required Actions

Except as specified by paragraph (h) of this AD: At the applicable times specified in paragraph 1.E., “Compliance,” of Boeing Service Bulletin 747-53A2860, Revision 3, dated November 11, 2019, do all applicable actions identified in, and in accordance with, the Accomplishment Instructions of Boeing Service Bulletin 747-53A2860, Revision 3, dated November 11, 2019.

(h) Exceptions to Service Information Specifications

(1) Where Boeing Service Bulletin 747-53A2860, Revision 3, dated November 11, 2019, uses the phrase “the Revision 3 date of this service bulletin,” this AD requires using “the effective date of this AD.”

(2) Where Boeing Service Bulletin 747-53A2860, Revision 3, dated November 11, 2019, specifies contacting Boeing for repair instructions: This AD requires doing the repair using a method approved in accordance with the procedures specified in paragraph (j) of this AD.

(i) Credit for Previous Actions

(1) This paragraph provides credit for the actions required by paragraph (g) of this AD, if those actions were performed before the effective date of this AD using Boeing Alert Service Bulletin 747-53A2860, Revision 1, dated March 18, 2014, which was incorporated by reference in AD 2015-13-06, Amendment 39-18193 (80 FR 44835, July 28, 2015); or Boeing Service Bulletin 747-53A2860, Revision 2, dated July 12, 2016, which is not incorporated by reference in this AD.

(2) This paragraph provides credit for the repetitive inspections, and inspection of temporary repair and corrective actions required by paragraph (g) of this AD, if those actions were performed before September 1, 2015 (the effective date of AD 2015-13-06) using Boeing Alert Service Bulletin 747-53A2860, dated December 4, 2012, which was incorporated by reference in AD 2013-14-05, Amendment 39-17510, (78 FR 43763, July 22, 2013).

(j) Alternative Methods of Compliance (AMOCs)

(1) The Manager, Seattle ACO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (k)(1) of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair, modification, or alteration required by this AD if it is approved by The Boeing Company Organization Designation Authorization (ODA) that has been authorized by the Manager, Seattle ACO Branch, FAA, to make those findings. To be approved, the repair method, modification deviation, or alteration deviation must meet the certification basis of the airplane, and the approval must specifically refer to this AD.

(4) AMOCs approved previously for the actions specified in paragraphs (g), (h), (i), and (j) of AD 2015-13-06 are approved as AMOCs for the corresponding provisions of Boeing Service Bulletin 747-53A2860, Revision 3, dated November 11, 2019, that are required by paragraph (g) of this AD.

(k) Related Information

(1) For more information about this AD, contact Eric Lin, Aerospace Engineer, Airframe Section, FAA, Seattle ACO Branch, 2200 South 216th St., Des Moines, WA 98198; phone and fax: 206-231-3523; email: eric.lin@faa.gov.

(2) For service information identified in this AD, contact Boeing Commercial Airplanes, Attention: Contractual & Data Services (C&DS), 2600 Westminster Blvd., MC 110-SK57, Seal Beach, CA 90740-5600; phone: 562-797-1717; internet: https://www.myboeingfleet.com. You may view this referenced service information at the FAA, Transport Standards Branch, 2200 South 216th St., Des Moines, WA.

For information on the availability of this material at the FAA, call 206-231-3195.

Issued on March 22, 2020.
Lance T. Gant,
Director, Compliance & Airworthiness Division, Aircraft Certification Service.

[FR Doc. 2020-06501 Filed 3-27-20; 8:45 am]

BILLING CODE 4910-13-P